DEPARTMENT OF HEALTH AND HUMAN SERVICES

National Institutes of Health

In Vitro to In Vivo Extrapolation for High Throughput Prioritization and Decision Making; Notice of Webinars and Public Workshop; Registration Information; Amended Notice

SUMMARY: This notice amends Federal Register notice 80 FR 56476, published September 18, 2015, announcing the workshop and webinar series “In Vitro to In Vivo Extrapolation for High Throughput Prioritization and Decision Making.” A webinar date has changed from December 2, 2015, to December 3, 2015, at 11:00 a.m. Eastern 0.0.Standard Time (EST). All other information in the original notice has not changed. Preliminary agenda, registration, and other meeting materials are available at http://ntp.niehs.nih.gov/go/ivive-wksp-2016.

DATES: Webinars: November 4, 2015; December 3, 2015; and January 6, 2016; at 11:00 a.m. EST.

Dated: October 21, 2015.
John R. Bucher,
Associate Director, National Toxicology Program.

[FR Doc. 2015-27200 Filed 10-26-15; 8:45 am]

BILLING CODE 4140-01-P